DEPARTMENT OF COMMERCE

International Trade Administration

[A-560-822, A-557-813, A-570-886, A-583-843, A-549-821, A-552-806]

Polyethylene Retail Carrier Bags From Indonesia, Malaysia, the People's Republic of China, Taiwan, Thailand, and the Socialist Republic of Vietnam: Final Results of the Expedited Sunset Reviews of the Antidumping Duty Orders

AGENCY: Enforcement and Compliance, International Trade Administration, Department of Commerce.

SUMMARY: The Department of Commerce (the Department) finds that revocation of the antidumping duty orders on polyethylene retail carrier bags from Indonesia, Malaysia, the People's Republic of China, Taiwan, Thailand, and the Socialist Republic of Vietnam would be likely to lead to continuation or recurrence of dumping as indicated in the “Final Results of Sunset Review” section of this notice.

DATES: Effective Date: July 13, 2015.

FOR FURTHER INFORMATION CONTACT: Thomas Schauer or Minoo Hatten, AD/CVD Operations, Office I, Enforcement and Compliance, International Trade Administration, U.S. Department of Commerce, 14th Street and Constitution Avenue NW., Washington, DC 20230; telephone: (202) 482-0410 or (202) 482-1690, respectively.

SUPPLEMENTARY INFORMATION:

Background

On April 1, 2015, the Department published the notice of initiation of the sunset reviews of the antidumping duty orders on polyethylene retail carrier bags (PRCBs) from Indonesia, Malaysia, the People's Republic of China (PRC), Taiwan, Thailand, and the Socialist Republic of Vietnam (Vietnam) pursuant to section 751(c) of the Tariff Act of 1930, as amended (the Act).¹

¹ See Initiation of Five-year (“Sunset”) Review, 80 FR 17388 (April 1, 2015) (Initiation Notice).

In accordance with 19 CFR 351.218(d)(1)(i), the Department received notices of intent to participate in these sunset reviews from the Polyethylene Retail Carrier Bag Committee (the domestic interested party) within 15 days after the date of publication of the Initiation Notice and the effective date of the initiation of this sunset review.² The domestic interested party claimed interested party status under section 771(9)(C) of the Act.

² See Letters to the Secretary from Polyethylene Retail Carrier Bag Committee: 1) “Second Five-Year (`Sunset') Review Of Antidumping Duty Order On Polyethylene Retail Carrier Bags From Indonesia: Notice Of Intent To Participate In Sunset Review” (April 16, 2015); 2) “Second Five-Year (`Sunset') Review Of Antidumping Duty Order On Polyethylene Retail Carrier Bags From Malaysia: Notice Of Intent To Participate In Sunset Review” (April 16, 2015); 3) “Second Five-Year (`Sunset') Review Of Antidumping Duty Order On Polyethylene Retail Carrier Bags From The People's Republic Of China: Notice Of Intent To Participate In Sunset Review” (April 16, 2015); 4) “Second Five-Year (`Sunset') Review Of Antidumping Duty Order On Polyethylene Retail Carrier Bags From Taiwan: Notice Of Intent To Participate In Sunset Review” (April 16, 2015); 5) “Second Five-Year (`Sunset') Review Of Antidumping Duty Order On Polyethylene Retail Carrier Bags From Thailand: Notice Of Intent To Participate In Sunset Review” (April 16, 2015); and 6) “Second Five-Year (`Sunset') Review Of Antidumping Duty Order On Polyethylene Retail Carrier Bags From The Socialist Republic Of Vietnam: Notice Of Intent To Participate In Sunset Review” (April 16, 2015). The Polyethylene Retail Carrier Bag Committee is comprised of five domestic producers of PRCBs: Hilex Poly Co., LLC, Superbag Corporation, Unistar Plastics, LLC, Command Packaging, and Roplast Industries, Inc. Id.

The Department received complete substantive responses to the Initiation Notice from the domestic interested party within the 30-day period specified in 19 CFR 351.218(d)(3)(i).³ The Department received no substantive responses from any respondent interested party. In accordance with section 751(c)(3)(B) of the Act and 19 CFR 351.218(e)(1)(ii)(C)(2), the Department conducted expedited (120-day) sunset reviews of the antidumping duty orders on PRCBs from Indonesia, Malaysia, the PRC, Taiwan, Thailand, and Vietnam.

³ See letters from domestic interested party: “Five-Year (`Sunset') Review Of Antidumping Duty Order On Polyethylene Retail Carrier Bags From Indonesia: Domestic Industry's Substantive Response” (May 1, 2015) (Indonesia Substantive Response); 2) “Second Five-Year (`Sunset') Review Of Antidumping Duty Order On Polyethylene Retail Carrier Bags From Malaysia: Domestic Industry's Substantive Response” (May 1, 2015) (Malaysia Substantive Response); 3) “Second Five-Year (`Sunset') Review Of Antidumping Duty Order On Polyethylene Retail Carrier Bags From The People's Republic Of China: Domestic Industry's Substantive Response” (May 1, 2015) (PRC Substantive Response); 4) “Five-Year (`Sunset') Review Of Antidumping Duty Order On Polyethylene Retail Carrier Bags From Taiwan: Domestic Industry's Substantive Response” (May 1, 2015) (Taiwan Substantive Response); 5) “Second Five-Year (`Sunset') Review Of Antidumping Duty Order On Polyethylene Retail Carrier Bags From Thailand: Domestic Industry's Substantive Response” (May 1, 2015) (Thailand Substantive Response); and 6) “Five-Year (`Sunset') Review Of Antidumping Duty Order On Polyethylene Retail Carrier Bags From The Socialist Republic Of Vietnam: Domestic Industry's Substantive Response” (May 1, 2015) (Vietnam Substantive Response).

Scope of the Orders

The merchandise subject to the antidumping duty orders is PRCBs which are currently classified under subheading 3923.21.0085 of the Harmonized Tariff Schedule of the United States (HTSUS). The HTSUS number is provided for convenience and customs purposes. A full description of the scope of the order is contained in the Preliminary Decision Memorandum.⁴ The written description is dispositive.

⁴ See Memorandum from Christian Marsh, Deputy Assistant Secretary for Antidumping and Countervailing Duty Operations, to Paul Piquado, Assistant Secretary for Enforcement and Compliance, entitled, “Issues and Decision Memorandum for the Expedited Sunset Reviews of the Antidumping Duty Orders on Polyethylene Retail Carrier Bags from Indonesia, Malaysia, the People's Republic of China, Taiwan, Thailand, and the Socialist Republic of Vietnam” dated concurrently with this notice (Issues and Decision Memorandum).

Analysis of Comments Received

A complete discussion of all issues raised in these reviews are addressed in the accompanying Issues and DecisionMemorandum, which is hereby adopted by this notice, including the likelihood of continuation or recurrence of dumping in the event of revocation and the magnitude of dumping margins likely to prevail if the orders were revoked.⁵ The Issues and Decision Memorandum is a public document and is on file electronically via Enforcement and Compliance's Antidumping and Countervailing Duty Centralized Electronic Service System (ACCESS). ACCESS is available to registered users at http://access.trade.gov and to all parties in the Central Records Unit in Room B8024 of the main Department of Commerce building. In addition, a complete version of the Issues and Decision Memorandum can be accessed directly on the Internet at http://enforcement.trade.gov/frn/index.html.

⁵ See Issues and Decision Memorandum.

Final Results of Reviews

Pursuant to sections 751(c)(1) and 752(c) of the Act, we determine that revocation of the antidumping duty orders on PRCBs from Indonesia, Malaysia, the PRC, Taiwan, Thailand, and Vietnam would be likely to lead to continuation or recurrence of dumping up to the following weighted-average margin percentages:

Country | Weighted- Average Margin (Percent)
Indonesia | 85.17
Malaysia | 101.74
PRC | 77.57
Taiwan | 95.81
Thailand | 122.88
Vietnam | 76.11

Notification to Interested Parties

This notice serves as the only reminder to parties subject to administrative protective orders (APO) of their responsibility concerning the disposition of proprietary information disclosed under APO in accordance with 19 CFR 351.305(a). Timely written notification of the destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: July 6, 2015.
Paul Piquado,
Assistant Secretary for Enforcement and Compliance.

[FR Doc. 2015-17071 Filed 7-10-15; 8:45 am]

BILLING CODE 3510-DS-P